DEPARTMENT OF ENERGY

Federal Energy Regulatory Commission

[Docket No. CP10-58-000]

Dominion Transmission, Inc.; Notice of Request Under Blanket Authorization

February 17, 2010.

Take notice that on February 3, 2010, Dominion Transmission, Inc. (Dominion), 701 East Cary Street 701 East Cary Street Richmond, VA 23219, filed in Docket No. CP10-58-000, a prior notice request under its blanket certificate issued in Docket No. CP82-537-000 pursuant to sections 157.205(b), 157.208(c) and 157.213 of the Commission's regulations under the Natural Gas Act (NGA) for authorization to convert one well located in the Greenlick Storage Complex in Potter County, Pennsylvania. Dominion proposes to convert RW-400 into an injection/withdrawal well located in the Greenlick Storage Complex. Dominion states that the certificated physical parameters, including total inventory, reservoir pressure, reservoir and buffer boundaries, and certificated capacity (including injection and withdrawal capacity) of the Greenlick Storage Complex will remain unchanged with the conversion of this well from observation to injection/withdrawal, all as more fully set forth in the application, which is on file with the Commission and open to public inspection. The filing may also be viewed on the Web at http://www.ferc.gov using the “eLibrary” link. Enter the docket number excluding the last three digits in the docket number field to access the document. For assistance, contact FERC at FERCOnlineSupport@ferc.gov or call toll-free, (866) 208-3676 or TTY, (202) 502-8659.

Any questions regarding this Prior Notice should be directed to Amanda K. Prestage, Regulatory and Certificates Analyst, Dominion Transmission, Inc., 701 East Cary Street, Richmond, VA 23219, telephone no. (804) 771-4416, facsimile no. (804) 771-4804 and E-mail: Amanda.K.Prestage@dom.com.

Any person may, within 60 days after the issuance of the instant notice by the Commission, file pursuant to Rule 214 of the Commission's Procedural Rules (18 CFR 385.214) a motion to intervene or notice of intervention. Any person filing to intervene or the Commission's staff may, pursuant to section 157.205 of the Commission's Regulations under the NGA (18 CFR 157.205) file a protest to the request. If no protest is filed within the time allowed therefore, the proposed activity shall be deemed to be authorized effective the day after the time allowed for protest. If a protest is filed and not withdrawn within 30 days after the time allowed for filing a protest, the instant request shall be treated as an application for authorization pursuant to section 7 of the NGA.

The Commission strongly encourages electronic filings of comments, protests, and interventions via the internet in lieu of paper. See 18 CFR 385.2001(a)(1)(iii) and the instructions on the Commission's Web site (http://www.ferc.gov) under the “e-Filing” link.

Kimberly D. Bose,
Secretary.

[FR Doc. 2010-3617 Filed 2-23-10; 8:45 am]

BILLING CODE 6717-01-P